FEDERAL MINE SAFETY AND HEALTH REVIEW COMMISSION

Sunshine Act Meetings

TIME AND DATE: 2 p.m., Thursday, September 19, 2024.

PLACE: The United States Department of Labor Auditorium, Frances Perkins Building, 200 Constitution Avenue NW, Washington, DC 20210.

STATUS: Open.

MATTERS TO BE CONSIDERED: The Commission will hear oral argument in the matter of Geneva Rock Products, Inc., Docket No. WEST 2022-0097. (Issues include whether the Judge abused his discretion when he ordered a stay of the case for an indefinite duration because of a pending criminal matter.)

Any person attending this oral argument who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD Relay/1-800-877-8339 for toll free.

Phone Number for Listening to Meeting: 1 (866) 236-7472, Passcode: 678-100.

(Authority: 5 U.S.C. 552b)

Dated: September 9, 2024.
Sarah L. Stewart,
Deputy General Counsel.

[FR Doc. 2024-20792 Filed 9-10-24; 11:15 am]

BILLING CODE 6735-01-P